DEPARTMENT OF DEFENSE

Office of the Secretary

[Transmittal No. 24-1D]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-1D.

Dated: January 8, 2026.
Stephanie J. Bost,
Alternate OSD Federal Register Liaison Officer, Department of Defense.

BILLING CODE 6001-FR-P

BILLING CODE 6001-FR-C

Transmittal No. 24-1D

REPORT OF ENHANCEMENT OR UPGRADE OF SENSITIVITY OF TECHNOLOGY OR CAPABILITY (SEC. 36(B)(5)(C), AECA)

(i) Purchaser: Government of Australia

(ii) Sec. 36(b)(1), AECA Transmittal No.: 09-36

Date: July 17, 2009

Military Department: Air Force

(iii) Description: On July 17, 2009, Congress was notified by congressional certification transmittal number 09-36 of the possible sale, under Section 36(b)(1) of the Arms Export Control Act (AECA), to continue participation in the USAF/Boeing Globemaster III Sustainment Partnership (GSP) which consists of support for Australia's fleet of four (4) Boeing C-17A Globemaster III cargo aircraft, contractor technical and logistics personnel services, support equipment, spare and repair parts, and other related elements of logistics support. The estimated cost was $300 million. There was no Major Defense Equipment (MDE) associated with this sale.

On May 19, 2014, Congress was notified by congressional certification transmittal number 14-0C, under section 36(b)(5)(C) of the AECA, of the inclusion of additional Contractor Logistics Support (CLS) to support Australia's fleet of C-17 Globemaster III cargo aircraft, which increased from four (4) to six (6). The total case value was increased by $150 million, resulting in a total case value of $450 million. There was no MDE associated with this sale.

On December 1, 2017, Congress was notified by congressional certification transmittal number 17-0A, under section 36(b)(5)(C) of the AECA, of the further inclusion of additional funding to maintain Australia's participation in the USAF/Boeing Globemaster III Sustainment Partnership (GSP) through 2022. Additionally, Australia's fleet of C-17A Globemaster III cargo aircraft increased from six (6) to eight (8). Support included contractor technical and logistics support services; support equipment; spare and repair parts; and other related elements of logistics support. The total case value increased by $400 million, resulting in a total case value of $850 million. There was no MDE associated with this sale.

This transmittal reports the addition of the following non-MDE items: Contractor Logistics Support (CLS) services; major modifications and maintenance support; personnel training and training equipment; United States (U.S.) Government and contractor engineering, technical, and logistics support services; and other related elements of logistics and program support. The estimated total value of the new items is $4.03 billion. The estimated total case value will increase by $4.03 billion to a revised $4.88 billion. There is no MDE associated with this sale.

(iv) Significance: This proposed sale will support Australia's ability to effectively maintain its current force projection capability that enhances interoperability with U.S. forces, well into the future.

(v) Justification: This proposed sale will support the foreign policy and national security of the U.S. by helping to improve the security of an important major non-NATO ally and partner which contributes significantly to peacekeeping, humanitarian, and combat operations around the world.

(vi) Sensitivity of Technology:

The highest level of classification of defense articles, components, and services included in this potential sale is UNCLASSIFIED.

(vii) Date Report Delivered to Congress: December 17, 2024

[FR Doc. 2026-00360 Filed 1-9-26; 8:45 am]

BILLING CODE 6001-FR-P